INTERNATIONAL TRADE COMMISSION

[Investigation No. 337-TA-718]

Certain Electronic Paper Towel Dispensing Devices and Components Thereof; Notice of Commission Determination Not To Review an Initial Determination Granting Complainant's Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 23) granting complainant's motion to amend the complaint and notice of investigation.

FOR FURTHER INFORMATION CONTACT: James A. Worth, Office of the General Counsel, U.S. International Trade Commission, 500 E Street, SW., Washington, DC 20436, telephone (202) 205-3065. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on May 21, 2010, based on a complaint filed by Georgia-Pacific Consumer Products LP of Atlanta, Georgia (“Georgia-Pacific”), alleging violations of Section 337 of the Tariff Act of 1930 (19 U.S.C. 1337) in the importation into the United States, the sale for importation, and the sale within the United States after importation of certain electronic paper towel dispensing devices and components thereof by reason of infringement of certain claims of United States Patent Nos. 6,871,815; 7,017,856; 7,182,289; and 7,387,274. 75 FR 28651-2 (May 21, 2010). The complainant named as respondents Kruger Products LP of Mississauga, Canada (“Kruger”); KTG USA LP of Memphis, Tennessee (“KTG USA”); Stefco Industries, Inc. of Haines City, Florida (“Stefco”); Cellynne Corporation of Haines City, Florida (“Cellyne”); Draco Hygienic Products Inc. of Ontario, California; NetPak Electronic Plastic and Cosmetic, Inc., d/b/a/Open for Business of Chicago, Illinois (“NetPak Chicago”); NetPak Electronik Plastik ve Kozmetik Sanayi, Ve Ticaret Ltd of Izmir, Turkey (“NetPak Turkey”); Paradigm Marketing Consortium, Inc. of Syosset, New York; United Sourcing Network Corp. of Syosset, New York; New Choice (H.K.) Ltd. of Shatin, Hong Kong; and Vida International Inc. of Taipei, Taiwan.

On August 16, 2010, the Commission issued notice of its determination not to review an ID amending the complaint and notice of investigation: (1) To correct the corporate name of NetPak Chicago; (2) to redefine “Kruger” to “Kruger Products and/or KTG USA”; (3) to indicate that Georgia-Pacific no longer alleges that NetPak Turkey is the source of Stefco's and Cellynne's accused product; (4) to add new respondents Jet Power International Limited; Winco Industries Co.; DWL Industries Co.; Ko-Am Corporation Inc. d/b/a Janitor's World; Natury, S.A. De C.V.; Update International Inc.; and AIM.

On October 25, 2010, Georgia-Pacific filed a motion seeking to further amend the complaint and notice of investigation to correct the corporate name of the respondent originally identified as “Update International Inc.” to “Franklin Financial Management, Inc. d/b/a Update International” of California, and to make certain other technical corrections. On November 10, 2010, the ALJ issued Order No. 23, granting the motion. No petitions for review were filed.

The Commission has determined not to review the ID.

The authority for the Commission's determination is contained in Section 337 of the Tariff Act of 1930, as amended (19 U.S.C. 1337), and in section 210.42 of the Commission's Rules of Practice and Procedure (19 CFR 210.42).

By order of the Commission.
Issued: December 3, 2010.
Marilyn R. Abbott,
Secretary to the Commission.

[FR Doc. 2010-30857 Filed 12-7-10; 8:45 am]

BILLING CODE 7020-02-P